DEPARTMENT OF THE TREASURY

Internal Revenue Service

Proposed Collection; Comment Request for Forms 12339, 12339-B, 12339-C, and 13775.

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13(44 U.S.C. 3506(c)(2)(A)). Currently, the IRS is soliciting comments concerning Forms 12339, Internal Revenue Service Advisory Council Membership Application; 12339-B, Information Reporting Program Advisory Committee Membership Application, 12339-C, Advisory Committee on Tax Exempt and Government Entities—Membership Application, and Form 13775, Tax Check Waiver.

DATES: Written comments should be received on or before March 16, 2015 to be assured of consideration.

ADDRESSES: Direct all written comments to Christie Preston, Internal Revenue Service, Room 6129, 1111 Constitution Avenue NW., Washington, DC 20224.

FOR FURTHER INFORMATION CONTACT: Requests for additional information or copies of the form and instructions should be directed to Kerry Dennis, Internal Revenue Service, Room 6129, 1111 Constitution Avenue NW., Washington, DC 20224, or through the internet at Kerry.Dennis@irs.gov.

SUPPLEMENTARY INFORMATION: Title: Membership Applications for Advisory Councils, IRSAC (Internal Revenue Service Advisory Council), and IRPAC (Information Reporting Program Advisory Committee), and Tax Check Waiver.

OMB Number: 1545-1791.

Form Numbers: 12339, 12339-B, 12339-C, & 13775.

Abstract: Form 12339-C was created to better solicit and maintain all of the applicant information for those interested in becoming members of these Advisory Councils. Form 12339 must be completed by those individuals interested in applying for IRSAC. Form 12339-B must be completed by those interested in applying for IRPAC. Each form is submitted in conjunction with Form 13775, Tax Check Waiver, which authorizes the Government Liaison Disclosure analysts to provide the tax compliance check results to the appropriate IRS officials.

Current Actions: There are no changes being made to the forms at this time.

Type of Review: Extension of a currently approved collection.

Affected Public: Individuals or households, and businesses or other for-profit organizations.

Estimated Number of Respondents: 550.

Estimated Time per Response: 50 min.

Estimated Total Annual Burden Hours: 492.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request For Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: January 5, 2015.
Christie Preston,
IRS Reports Clearance Officer.

[FR Doc. 2015-00475 Filed 1-14-15; 8:45 am]

BILLING CODE 4830-01-P